DEPARTMENT OF JUSTICE

Notice of Lodging of Second Modification to Consent Decree Under the Clean Water Act

Under 28 CFR 50.7 notice is hereby given that on August 20, 2001, a proposed Second Modification To Consent Decree (“Second Modification”) in United States and State of Indiana v. City of Boonville, Civil Act No. EV 84-187-C-Y/H was lodged with the United States District Court for the Southern District of Indiana.

In this action, the United States sought injunctive relief and civil penalties for violations of the Clean Water Act (“CWA”), 33 U.S.C. 1251 et seq., and terms and conditions of an National Pollutant Discharge Elimination System (“NPDES”) permit governing discharges of pollutants from a publicly owned treatment works (“POTW”) operated by the City of Boonville, Indiana (“City”). Following entry of a Consent Decree in 1987 and entry of a Joint Stipulation and Order (“JSO”) modifying the Consent Decree in 1991, the United States sought additional relief and stipulated penalties as a result of the City's failure to complete construction of required POTW improvements in accordance with schedules set forth in the Consent Decree as modified by the JSO.

The proposed Second Amendment provides a modified schedule for the completion of some of the other remaining remedial work necessary for the City to obtain compliance with its NPDES permit and the Consent Decree, as modified by the JSO. Also, under the Second Modification the City will pay $61,000.00 as stipulated penalties to the United States of America and the State of Indiana.

The Department of Justice will receive for a period of thirty (30) days from the date of this publication comments relating to the proposed Second Modification. Comments should be addressed to the Assistant Attorney General, Environment and Natural Resources Division, P.O. Box 7611, U.S. Department of Justice, Washington, DC 20044-7611, and should refer to United States and State of Indiana v. City of Boonville, Civil Action No. EV 84-187-C-Y/H, D.J. Ref. 90-5-1-1-2071B.

The Second Modification may be examined at the Office of the United States Attorney, 10 West Market Street, Suite 2100, Indianapolis, Indiana, 46204-3048, and at U.S. EPA Region V, 77 W. Jackson Blvd., (C-14J), Chicago, Illinois, 60604-3590. A copy of the Second Modification may also be obtained by mail from the Consent Decree Library, P.O. Box 7611, U.S. Department of Justice, Washington, DC 20044-7611. In requesting a copy, please enclose a check in the amount of $6.00 (.25 cents per page reproduction cost) payable to the Consent Decree Library.

William D. Brighton,
Assistant Section Chief, Environmental Enforcement Section, Environment and Natural Resources Division.

[FR Doc. 01-22446 Filed 9-6-01; 8:45 am]

BILLING CODE 4410-15-M